OFFICE OF PERSONNEL MANAGEMENT

5 CFR Part 532

RIN 3206-AN87

Prevailing Rate Systems; Redefinition of Certain Appropriated Fund Federal Wage System Wage Areas

AGENCY: Office of Personnel Management.

ACTION: Proposed rule.

SUMMARY: The Office of Personnel Management (OPM) is issuing a proposed rule that would redefine the geographic boundaries of several appropriated fund Federal Wage System (FWS) wage areas for pay-setting purposes. Based on recent reviews of Metropolitan Statistical Area (MSA) boundaries in a number of wage areas, OPM proposes redefinitions affecting the following wage areas: Washington, DC; Hagerstown-Martinsburg-Chambersburg, MD; Detroit, MI; Jackson, MS; Meridian, MS; and Cleveland, OH.

DATES: Send comments on or before September 13, 2019.

ADDRESSES: You may submit comments, identified by docket number and/or Regulatory Information Number (RIN) and title, by the following method:

• Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: Madeline Gonzalez, by telephone at (202) 606-2838 or by email at pay-leave-policy@opm.gov.

SUPPLEMENTARY INFORMATION: OPM is issuing a proposed rule to redefine the geographic boundaries of several appropriated fund FWS wage areas. These changes are based on recommendations of the Federal Prevailing Rate Advisory Committee (FPRAC), the statutory national labor-management committee responsible for advising OPM on matters affecting the pay of FWS employees. From time to time, FPRAC reviews the boundaries of wage areas and provides OPM with recommendations for changes if the Committee finds that changes are warranted.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting MSAs for the purpose of defining a wage area, except in very unusual circumstances.

The Office of Management and Budget (OMB) defines MSAs and maintains and periodically updates the definitions of MSA boundaries. MSAs are composed of counties and are defined on the basis of a central urbanized area—a contiguous area of relatively high population density. Additional surrounding counties are included in MSAs if they have strong social and economic ties to central counties.

When the boundaries of wage areas were first established in the 1960s, there were fewer MSAs than there are today and the boundaries of the then existing MSAs were much smaller. Most MSAs were contained within the boundaries of a wage area. With each OMB update, MSAs have expanded and in some cases now extend beyond the boundaries of the wage area.

FPRAC recently reviewed several wage areas where boundaries subdivide certain MSAs and has recommended by consensus that OPM implement the changes described in this proposed rule. These changes would be effective on the first day of the first applicable pay period beginning on or after 30 days following publication of the final regulations.

Washington-Arlington-Alexandria, DC-VA-MD-WV MSA

Washington, DC; Calvert, Charles, Frederick, Montgomery, and Prince George's Counties, MD; Alexandria, Fairfax, Falls Church, Fredericksburg, Manassas, and Manassas Park Cities, VA; Arlington, Clarke, Culpeper, Fairfax, Fauquier, Loudoun, Madison, Prince William, Rappahannock, Spotsylvania, Stafford, and Warren Counties, VA; and Jefferson County, WV, comprise the Washington-Arlington-Alexandria, DC-MD-VA-WV MSA.

The Washington-Arlington-Alexandria MSA is split between the Washington, DC, wage area and the Hagerstown-Martinsburg-Chambersburg, MD, wage area. Washington, DC; Charles, Frederick, Montgomery, and Prince George's Counties, MD; Alexandria, Fairfax, Falls Church, Manassas, and Manassas Park Cities, VA; and Arlington, Fairfax, Loudoun, and Prince William Counties, VA, are part of the Washington, DC, survey area. Calvert County, MD; Fredericksburg City, VA; Clarke, Culpeper, Fauquier, Rappahannock, Spotsylvania, Stafford, and Warren Counties, VA; and Jefferson County, WV, are part of the Washington, DC, area of application. Madison County, VA, is part of the Hagerstown-Martinsburg-Chambersburg area of application.

OPM proposes to redefine Madison County to the Washington, DC, area of application so that the entire Washington-Arlington-Alexandria, DC-VA-MD-WV MSA is in one wage area. There are currently 44 FWS employees working in Madison County.

Toledo, OH MSA

Fulton, Lucas, Ottawa, and Wood Counties, OH, comprise the Toledo, OH MSA.

The Toledo MSA is split between the Cleveland, OH, wage area and the Detroit, MI, wage area. Ottawa County is part of the Cleveland area of application while Fulton, Lucas, and Wood Counties are part of the Detroit area of application.

OPM proposes to redefine Ottawa County to the Detroit area of application so that the entire Toledo, OH MSA is in one wage area. There are currently 38 FWS employees working in Ottawa County.

Hattiesburg, MS MSA

Covington, Forrest, Lamar, and Perry Counties, MS, comprise the Hattiesburg, MS MSA.

The Hattiesburg MSA is split between the Jackson, MS, wage area and the Meridian, MS, wage area. Covington County is part of the Jackson area of application. Forrest and Lamar Counties are part of the Meridian survey area while Perry County is part of the Meridian area of application.

OPM proposes to redefine Covington County to the Meridian area of application so that the entire Hattiesburg, MS MSA is in one wage area. There are currently no FWS employees working in Covington County.

Regulatory Impact Analysis

This action is not a “significant regulatory action” under the terms of Executive Order (E.O.) 12866 (58 FR 51735, October 4, 1993) and is therefore not subject to review under E.O. 12866 and 13563 (76 FR 3821, January 21, 2011).

Reducing Regulation and Controlling Regulatory Costs

This rule is not an Executive Order 13771 regulatory action because this rule is not significant under E.O. 12866.

Regulatory Flexibility Act

OPM certifies that this rule will not have a significant economic impact on a substantial number of small entities.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

This action pertains to agency management, personnel, and organization and does not substantially affect the rights or obligations of nonagency parties and, accordingly, is not a “rule” as that term is used by the Congressional Review Act (Subtitle E of the Small Business “Regulatory Enforcement Fairness Act of 1996 (SBREFA)). Therefore, the reporting requirement of 5 U.S.C. 801 does not apply.

Paperwork Reduction Act

This rule does not impose any new reporting or record-keeping requirements subject to the Paperwork Reduction Act.

List of Subjects in 5 CFR Part 532

Administrative practice and procedure, Freedom of information, Government employees, Reporting and recordkeeping requirements, Wages.

Office of Personnel Management.
Stephen Hickman,
Regulatory Affairs.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Washington, DC; Hagerstown-Martinsburg-Chambersburg, MD; Detroit, MI; Jackson, MS; Meridian, MS; and, Cleveland, OH, wage areas to read as follows:

Appendix C to Subpart B of Part 532—Appropriated Fund Wage and Survey Areas

* * * * *

DISTRICT OF COLUMBIA

Washington, DC

Survey Area

District of Columbia:

Washington, DC

Maryland:

Charles

Frederick

Montgomery

Prince George's

Virginia (cities):

Alexandria

Fairfax

Falls Church

Manassas

Manassas Park

Virginia (counties):

Arlington

Fairfax

Loudoun

Prince William

Area of Application. Survey area plus:

Maryland:

Calvert

St. Mary's

Virginia (city):

Fredericksburg

Virginia (counties):

Clarke

Culpeper

Fauquier

King George

Madison

Rappahannock

Spotsylvania

Stafford

Warren

West Virginia:

Jefferson

* * * * *

MARYLAND

* * * * *

Hagerstown-Martinsburg-Chambersburg

Survey Area

Maryland:

Washington

Pennsylvania:

Franklin

West Virginia:

Berkeley

Area of Application. Survey area.

Maryland:

Allegany

Garrett

Pennsylvania:

Fulton

Virginia (cities):

Harrisonburg

Winchester

Virginia (counties):

Frederick

Page

Rockingham

Shenandoah

West Virginia:

Hampshire

Hardy

Mineral

Morgan

* * * * *

MICHIGAN

Detroit

Survey Area

Michigan:

Lapeer

Livingston

Macomb

Oakland

St. Clair

Wayne

Area of Application. Survey area.

Michigan:

Arenac

Bay

Clare

Clinton

Eaton

Genesee

Gladwin

Gratiot

Huron

Ingham

Isabella

Lenawee

Midland

Monroe

Saginaw

Sanilac

Shiawassee

Tuscola

Washtenaw

Ohio:

Fulton

Lucas

Ottawa

Wood

* * * * *

MISSISSIPPI

* * * * *

Jackson

Survey Area

Mississippi:

Hinds

Rankin

Warren

Area of Application. Survey area.

Mississippi:

Adams

Amite

Attala

Claiborne

Copiah

Franklin

Holmes

Humphreys

Issaquena

Jefferson

Jefferson Davis

Lawrence

Lincoln

Madison

Marion

Pike

Scott

Sharkey

Simpson

Smith

Walthall

Wilkinson

Yazoo

Meridian

Survey Area

Alabama:

Choctaw

Mississippi:

Forrest

Lamar

Lauderdale

Area of Application. Survey area plus:

Alabama:

Sumter

Mississippi:

Clarke

Covington

Greene

Jasper

Jones

Kemper

Leake

Neshoba

Newton

Perry

Wayne

* * * * *

OHIO

* * * * *

Cleveland

Survey Area

Ohio:

Cuyahoga

Geauga

Lake

Medina

Area of Application. Survey area plus:

Ohio:

Ashland

Ashtabula

Carroll

Columbiana

Erie

Huron

Lorain

Mahoning

Portage

Sandusky

Seneca

Stark

Summit

Trumbull

Wayne

Pennsylvania:

Mercer

* * * * *

[FR Doc. 2019-17413 Filed 8-13-19; 8:45 am]

BILLING CODE 6325-39-P